CONSUMER PRODUCT SAFETY COMMISSION

Agency Information Collection Activities; Announcement of Office of Management and Budget Approval; Third Party Testing of Children's Products

AGENCY: Consumer Product Safety Commission.

ACTION: Notice.

SUMMARY: The Consumer Product Safety Commission (Commission) is announcing that a collection of information entitled Third Party Testing of Children's Products has been approved by the Office of Management and budget (OMB) under the Paperwork Reduction Act of 1995.

FOR FURTHER INFORMATION CONTACT: Robert H. Squibb, Consumer Product Safety Commission, 4330 East West Highway, Bethesda, MD 20814; (301) 504-7815, or by email to: rsquibb@cpsc.gov.

SUPPLEMENTARY INFORMATION: The agency previously announced that a proposed information collection regarding third party testing of children's products had been submitted to OMB for review and clearance under 44 U.S.C. 3501-3520 in the Federal Register as follows:

• May 20, 2010, 75 FR 28336, at 28360-61 (proposed rule on Testing and Labeling Pertaining to Product Certification (testing rule));

• May 20, 2010, 75 FR 28208, at 28217-18 (proposed rule on Conditions and Requirements for Testing Component Parts of Consumer Products);

• November 8, 2011, 76 FR 69586, at 69592-93 (proposed amendment to the testing rule on selecting representative samples for periodic testing).

Final rules for each were published in the Federal Register on the following dates, respectively: November 8, 2011 (76 FR 69482, at 69537-40); November 8, 2011 (76 FR 69546, at 69578-80); and December 5, 2012 (77 FR 72205, at 72217-18).

An agency may not conduct or sponsor, and a person is not required to respond to, a collection of information unless it displays a currently valid OMB control number. OMB has now approved the information collection and has assigned OMB control number 3041-0159. The approval expires on February 29, 2016. A copy of the supporting statement for this information collection is available on the Internet at http://www.reginfo.gov/public/do/PRAMain.

Dated: March 7, 2013.
Todd A. Stevenson,
Secretary, Consumer Product Safety Commission.

[FR Doc. 2013-05575 Filed 3-11-13; 8:45 am]

BILLING CODE 6355-01-P